FEDERAL RESERVE SYSTEM

Formations of, Acquisitions by, and Mergers of Savings and Loan Holding Companies; Correction

This notice corrects a notice (FR Doc. 2015-28261) published on page 68540 of the issue for Thursday, November 5, 2015.

Under the Federal Reserve Bank of Atlanta, the entry for Oculina Banc Corp, Vero Beach, Florida, is revised to read as follows:

A. Federal Reserve Bank of Atlanta (Chapelle Davis, Assistant Vice President) 1000 Peachtree Street NE., Atlanta, Georgia 30309:

1. Oculina Banc Corp, Vero Beach, Florida; proposes to merge with its parent company, Colonial Banc Corp, Vero Beach, Florida. Oculina Banc Corp will survive the merger. Colonial Banc Corp and Oculina Banc Corp control Oculina Bank, Fort Pierce, Florida.

Comments on this application must be received by November 30, 2015.

Board of Governors of the Federal Reserve System, November 6, 2015.
Michael J. Lewandowski,
Associate Secretary of the Board.

[FR Doc. 2015-28721 Filed 11-10-15; 8:45 am]

BILLING CODE 6210-01-P